DEPARTMENT OF COMMERCE

International Trade Administration

(A-570-912)

New Pneumatic Off-the-Road Tires from the People's Republic of China: Notice of Partial Rescission of Antidumping Duty Administrative Review

AGENCY: Import Administration, International Trade Administration, Department of Commerce.

EFFECTIVE DATE: August 4, 2010.

FOR FURTHER INFORMATION CONTACT: Andrea Staebler Berton or Raquel Silva, AD/CVD Operations, Office 8, Import Administration, International Trade Administration, U.S. Department of Commerce, 14th Street and Constitution Avenue, NW, Washington, DC 20230; telephone: (202) 482-4037 or (202) 482-6475, respectively.

SUPPLEMENTARY INFORMATION:

Background

On September 1, 2009, the Department of Commerce (“the Department”) published a notice of opportunity to request an administrative review of the antidumping duty order on new pneumatic off-the-road tires (“OTR tires”) from the People's Republic of China (“PRC”) for the period of review (“POR”) February 20, 2008, through August 31, 2009. See Antidumping or Countervailing Duty Order, Finding, or Suspended Investigation: Opportunity to Request Administrative Review, 74 FR 45179 (September 1, 2009). On September 29, 2009, Qingdao Free Trade Zone Full World International Trading Co., Ltd. (“Full-World”), exporter of OTR tires, requested that the Department conduct an administrative review of its exports to the United States during the POR. The Department received timely requests for review for fourteen additional exporters: Aeolus Tyre Co., Ltd. (“Aeolus”); Guizhou Tire I&E Corporation, Guizhou Tyre Co., Ltd., and Guizhou Advanced Rubber Co., Ltd. (collectively “GTC”); Hanghzou Zhongce Rubber Co., Ltd.; Hebei Starbright Tire Co., Ltd. (“Starbright”); Innova Rubber Co., Ltd. (“Innova”); Jiangsu Feichi Co., Ltd. (“Feichi”); KS Holding Limited and KS Resources Limited (collectively “KS Ltd.”); Laizhou Xiongying Rubber Industry Co., Ltd.; Qingdao Taifa Group Co., Ltd.; Shangdong Huitong Tyre Co., Ltd. (“Huitong”); Triangle Tyre Co., Ltd. (“Triangle”); Tianjin Wanda Tyre Group (“Wanda”); Tianjin United Tire &Rubber International Co., Ltd. (“TUTRIC”); and Weihai Zhongwei Rubber Co., Ltd. The Department then published in the Federal Register the initiation notice for the antidumping duty administrative review of OTR tires from the PRC for the 2008 -2009 POR. See Initiation of Antidumping and Countervailing Duty Administrative Reviews, Request for Revocation in Part, 74 FR 54956 (October 26, 2009).

Partial Rescission of Review

Pursuant to 19 CFR 351.213(d)(1), the Secretary will rescind an administrative review, in whole or in part, if the party that requested the review withdraws the request within 90 days of the date of publication of the notice of initiation of the requested review. The Secretary may also extend this time limit if the Secretary decides that it is reasonable to do so. On May 21, 2010, the Department rescinded the administrative reviews of OTR tires with respect to GTC's, TUTRIC's, Feichi's, Huitong's, Aeolus', Triangle's, Wanda's, and Innova's exports. See New Pneumatic Off-the-Road Tires From the People's Republic of China: Notice of Partial Rescission of Antidumping Duty Administrative Review, 75 FR 28567 (May 21, 2010). On May 26, 2010, Full-World withdrew its request for an administrative review of its exports. In spite of the fact that Full-World missed the 90-day deadline, we are extending the time limit and accepting the request because the Department has not invested significant resources into the analysis of Full-World's responses. In fact, Full-World had not submitted any questionnaire responses prior to its request to rescind the review with respect to its exports. Because no additional party requested a review of Full-World's exports, the Department hereby rescinds the administrative review of OTR tires with respect to this entity in accordance with 19 CFR 351.213(d)(1). This administrative review will continue with respect to Starbright, Hanghzou Zhongce Rubber Co., Ltd., KS Ltd., Laizhou Xiongying Rubber Industry Co., Ltd., Qingdao Taifa Group Co., Ltd. and Weihai Zhongwei Rubber Co., Ltd.

Assessment Rates

The Department will instruct U.S. Customs and Border Protection (“CBP”) to assess antidumping duties on all appropriate entries. For Full-World, which had previously established eligibility for a separate rate, antidumping duties shall be assessed at rates equal to the cash deposit of estimated antidumping duties required at the time of entry, or withdrawal from warehouse, for consumption, in accordance with 19 CFR 351.212(c)(2). The Department intends to issue appropriate assessment instructions directly to CBP 15 days after publication of this notice.

Notification to Importers

This notice serves as a final reminder to importers of their responsibility under section 351.402(f) of the Department's regulations to file a certificate regarding the reimbursement of antidumping duties prior to liquidation of the relevant entries during this review period. Failure to comply with this requirement could result in the Secretary's assumption that reimbursement of antidumping duties occurred and subsequent assessment of double antidumping duties.

This notice is issued and published in accordance with section 777(i) of the Tariff Act of 1930, as amended, and 19 CFR 351.213(d)(4).

Dated: July 23, 2010.
Edward C. Yang,
Acting Deputy Assistant Secretary for Antidumping and Countervailing Duty Operations.

[FR Doc. 2010-19191 Filed 8-3-10; 8:45 am]

BILLING CODE 3510-DS-S